DEPARTMENT OF THE INTERIOR

National Park Service

General Management Plan, Final Environmental Impact Statement, Walnut Canyon National Monument, AZ

AGENCY: National Park Service, Department of the Interior.

ACTION: Notice of Availability of a Record of Decision on the Final Environmental Impact Statement for the General Management Plan, Walnut Canyon National Monument.

SUMMARY: Pursuant to the National Environmental Policy Act of 1969, Pub. L. 91-190, 42 U.S.C. 4332(2)(C), the National Park Service announces the availability of the Record of Decision for the General Management Plan, Walnut Canyon National Monument, Arizona. On August 21, 2007, the Regional Director, Intermountain Region approved the Record of Decision for the project. As soon as practicable, the National Park Service will begin to implement the Preferred Alternative contained in the FEIS issued on March 19, 2007. Three alternatives were analyzed in the Draft and Final Environmental Impact Statements—a no-action and two action alternatives, including the National Park Service preferred alternative. The preferred alternative would preserve untrailed expanses, unfragmented natural systems, and relatively pristine conditions throughout much of the park. It would protect Walnut Canyon as a critical wildlife corridor. Visitation would be managed with the goal of providing quality learning opportunities in an intimate atmosphere while maintaining the health of the canyon ecosystem. The natural soundscape and tranquil setting of the canyon would be enhanced through strategic placement of facilities. The full range of foreseeable environmental consequences was assessed, and appropriate mitigating measures were identified.

The Record of Decision includes a statement of the decision made, synopses of other alternatives considered, the basis for the decision, a description of the environmentally preferable alternative, a finding of no impairment of park resources and values, a listing of measures to minimize environmental harm, and an overview of public involvement in the decision-making process.

FOR FURTHER INFORMATION CONTACT: Todd Metzger, Acting Superintendent, Flagstaff Area Monuments, 6400 N. Highway 89, Flagstaff, Arizona 86004, (928) 526-1157.

SUPPLEMENTARY INFORMATION: Copies of the Record of Decision may be obtained from the contact listed above.

Dated: August 22, 2007.
Michael D. Snyder,
Intermountain Regional Director, National Park Service.

[FR Doc. E7-21574 Filed 11-1-07; 8:45 am]

BILLING CODE 4312-04-P